DEPARTMENT OF DEFENSE

Department of the Navy

Privacy Act of 1974; System of Records

AGENCY: Department of the Navy, DoD.

ACTION: Notice to delete systems of records.

SUMMARY: The Department of the Navy is deleting two systems of records notices in its existing inventory of records systems subject to the Privacy Act of 1974 (5 U.S.C. 662a), as amended.

DATES: This proposed action will be effective without further notice on October 25, 2004 unless comments are received which result in a contrary determination.

ADDRESSES: Send comments to Department of the Navy, PA/FOIA Policy Branch, Chief of Naval Operations (DNS-36), 2000 Navy Pentagon, Washington, DC 20350-2000.

FOR FURTHER INFORMATION CONTACT: Mrs. Doris Lama at (202) 685-6545 or DSN 325-6545.

SUPPLEMENTARY INFORMATION: The Department of the Navy systems of records notices subject to the Privacy Act of 1974 (5 U.S.C. 552a), as amended, have been published in the Federal Register and are available from the address above.

The specific deletions are set forth below. The proposed deletions are not within the purview of subsection (r) of the Privacy Act of 1974 (5 U.S.C. 552a), as amended, which requires the submission of a new or altered system report.

Dated: September 17, 2004.
L.M. Bynum,
Alternate OSD Federal Register Liaison Officer, Department of Defense.

N07210-1

System name:

Losses of Public Funds File (February 22, 1993, 58 FR 10798).

Reason: Records are now under the cognizance of the Defense Finance and Accounting Service (DFAS) and are being maintained under the DFAS Privacy Act system of records notice T7332, entitled ‘Defense Debt Management System (DDMS)’ last published on June 27, 2002, at 67 FR 43292.

N07300-1

System name:

Relief for Losses of Public Funds/SBP Annuitants for Overpayment of Benefits (February 22, 1993, 58 FR 10807).

Reason: Records are now under the cognizance of the Defense Finance and Accounting Service (DFAS) and are being maintained under the DFAS Privacy Act system of records notice T7332, entitled ‘Defense Debt Management System (DDMS)’ last published on June 27, 2002, at 67 FR 43292 and T7347b, entitled ‘Defense Military Retiree and Annuity Pay System’ last published on February 20, 2003, at 68 FR 8230.

[FR Doc. 04-21325 Filed 9-22-04; 8:45 am]

BILLING CODE 5001-06-M